DEPARTMENT OF COMMERCE

National Oceanic and Atmospheric Administration

50 CFR Part 660

[I.D. 051004B]

Pacific Fishery Management Council; Notice of Intent

AGENCY: National Marine Fisheries Service (NMFS), National Oceanic and Atmospheric Administration (NOAA), Commerce.

ACTION: Notice of intent to prepare an environmental impact statement (EIS); request for comments; preliminary notice of public scoping meetings.

SUMMARY: NMFS and the Pacific Fishery Management Council (Pacific Council) announce their intent to prepare an EIS in accordance with the National Environmental Policy Act (NEPA) of 1969 to analyze proposals that provide dedicated access privileges for participants in the non-tribal Pacific Coast groundfish trawl fishery.

DATES: Public scoping meetings will be announced in the Federal Register at a later date. Written comments will be accepted at the Pacific Council office through August 2, 2004.

ADDRESSES: You may submit comments, on issues and alternatives, identified by [I.D. number] by any of the following methods:

•E-mail: TrawlAccessEIS.nwr@noaa.gov. Include [I.D. number] and enter “Scoping Comments” in the subject line of the message.

• Federal eRulemaking Portal: http://www.regulations.gov.

•Fax: 503-820-2299.

•Mail: Dr. Donald McIsaac, Pacific Fishery Management Council, 7700 NE Ambassador Pl., Suite 200, Portland, OR, 97220.

FOR FURTHER INFORMATION CONTACT: Steve Freese, (Northwest Region, NMFS) phone: 206-526-6113, fax: 206-526-6426 and email: steve.freese@noaa.gov; or Jim Seger, Pacific Fishery Management Council, phone: 503-820-2280, fax: 503-820-2299 and email: jim.seger@noaa.gov.

SUPPLEMENTARY INFORMATION:

Electronic Access

This Federal Register document is available on the Government Printing Office's website at: www.gpoaccess.gov/fr/index/html.

Description of the Proposal

The proposed alternatives to the status quo, which will be the subject of the EIS and considered by the Pacific Council for recommendation to NMFS, are programs that provide dedicated access privileges for participants in the non-tribal Pacific Coast groundfish trawl fishery. The main dedicated access privilege alternative the Pacific Council is considering is an individual fishing quota (IFQ) program for the Pacific Coast groundfish limited entry trawl fishery off Washington, Oregon and California. A trawl IFQ program would change management of harvest in the trawl fishery from a trip limit system with cumulative trip limits for every 2-month period to a quota system where each quota share could be harvested at any time during an open season. A trawl IFQ program would increase fishermen's flexibility in making decisions on when and how much quota to fish. Status quo (no action) will also be considered along with dedicated access privilege and other reasonable alternatives that may be proposed to address issues identified in the problem statement.

At the request of the Pacific Council, NMFS published an Advance Notice of Proposed Rulemaking regarding a Trawl Individual Quota Program and to Establish a Control Date (69 FR 1563, January 9, 2004). This control date for the trawl IQ program is intended to discourage increased fishing effort in the limited entry trawl fishery based on economic speculation while the Pacific Council develops and considers a trawl IQ program. Although the control date notice discussed the development of the trawl IQ program, NMFS and the Pacific Council also plan to consider other dedicated access alternatives.

General Background

The Council implemented a Pacific Coast Groundfish Fishery Management Plan (FMP) in 1982. Groundfish stocks are harvested in numerous commercial, recreational, and tribal fisheries in state and Federal waters off the West Coast. The non-tribal commercial seafood fleet taking groundfish is generally regulated as three sectors: Limited entry trawl, limited entry fixed gear, and directed open access. Groundfish are also harvested incidentally in non-groundfish commercial fisheries, most notably fisheries for pink shrimp, spot and ridgeback prawns, Pacific halibut, California halibut, and sea cucumbers (incidental open access fisheries).

Despite the recently completed buyback program, management of the West Coast groundfish trawl fishery is still marked by serious biological, social, and economic concerns; and discord between fishermen and managers and between different sectors of the fishery, similar to those cited in the U.S. Commission on Ocean Policy's April 2004 preliminary report. The trawl fishery is viewed as economically unsustainable given the current status of the stocks and the various measures to protect these stocks. One major source of discord and concern stems from the management of bycatch, particularly of overfished species as described in the draft programmatic bycatch DEIS. The notice of availability of the DEIS was published in the Federal Register on February 27, 2004 (69 FR 9314). The DEIS is available from the Pacific Council office (see ADDRESSES). After reviewing the draft programmatic bycatch DEIS the Pacific Council adopted a preferred alternative for addressing bycatch that included IFQ programs. The alternatives to status quo to be evaluated in the dedicated access EIS are amendments to the FMP and associated regulations to address these concerns through the use of dedicated access privileges. The concerns are described in more detail in the following problem statement:

As a result of bycatch problems, considerable harvest opportunity is being forgone in an economically stressed fishery. The trawl groundfish fishery is a multispecies fishery in which fishers exert varying and limited control of the mix of species in their catch. The optimum yields (OYs) for many overfished species have been set at low levels that place a major constraint on the industry's ability to fully harvest the available OYs of the more abundant target species that occur with the overfished species, wasting economic opportunity. Average discard rates for the fleet are applied to projected bycatch of overfished species. These discard rates determine the degree to which managers must constrain the harvest of targeted species that co-occur with overfished species. These discard rates are developed over a long period of time and do not rapidly respond to changes in fishing behavior by individual vessels or for the fleet as a whole. Under this system, there is little direct incentive for individual vessels to do everything possible to avoid take of species for which there are conservation concerns, such as overfished species. In an economically stressed environment, uncertainties about average bycatch rates become highly controversial. As a consequence, members of fishing fleets tend to place pressure on managers to be less conservative in their estimates of bycatch. Thus, in the current system there are uncertainties about the appropriate bycatch estimation factors, few incentives for the individual to reduce bycatch rates, and an associated loss of economic opportunity related to the harvest of target species.

The current management regime is not responsive to the wide variety of fishing business strategies and operational concerns. For example, historically the Pacific Council has tried to maintain a year-round groundfish fishery. Such a pattern works well for some business strategies in the industry, but there has been substantial comment from fishers who would prefer being able to pursue a more seasonal groundfish fishing strategy. The current management system does not have the flexibility to accommodate these disparate interests. Nor does it have the sophistication, information, and ability to make timely responses necessary to react to changes in market, weather, and harvest conditions that occur during the fishing year. The ability to react to changing conditions is key to conducting an efficient fishery in a manner that is safe for the participants.

Fishery stock depletion and economic deterioration of the fishery are concerns for fishing communities. Communities have a vital interest in the short- and long-term economic viability of the industry, the income and employment opportunities it provides, and the safety of participants in the fishery.

In summary, management of the fishery is challenged with the competing goals of: controlling bycatch, taking advantage of the available allowable harvests of more abundant stocks (including conducting safe and efficient harvest activities in a manner that optimizes net benefits over the short- and long-term), increasing management efficiency, and responding to community interest.

In consideration of this statement of the problem, the following goals have also been identified for improving conditions in the groundfish trawl fishery.

• Provide for a well-managed system for protection and conservation of groundfish resources.

• Provide for a viable and efficient groundfish industry.

• Increase net benefits from the fishery.

• Provide for capacity rationalization through market forces.

• Provide for a fair and equitable distribution of fishery benefits.

• Provide for a safe fishery.

Preliminary Identification of Alternatives

NEPA requires preparation of an EIS for major Federal actions significantly affecting the quality of the human environment. The Pacific Council and NMFS are seeking information from the public on the range of alternatives and on the environmental, social, and economic issues to be considered.

Based on the above problem statement, goals and objectives, and consistent with the Pacific Council's preferred alternative in the programmatic bycatch EIS, the Pacific Council has identified IFQs for the trawl fishery as one of the main types of alternatives to status quo that it will consider. The Pacific Council has begun developing specific provisions for IFQ alternatives. Under IFQs, total harvest mortality is controlled by allocating an amount to individual fishers and holding those individuals responsible for ensuring that their harvest or harvest mortality does not exceed the amount they are allocated.

The EIS will identify and evaluate other reasonable and technically feasible alternatives that might be used to simultaneously address capacity rationalization and the other problems and goals specified here. The Pacific Council is interested in public comment on alternatives to dedicated access privilege programs that address the problems surrounding and goals for this issue. The Pacific Council is also interested in receiving comments on different types of dedicated access privilege programs that should be considered and specific provisions that should be included in the alternatives.

According to the U.S. Commission on Ocean Policy's April 2004 preliminary report (pp. 232-236), there are several different types of dedicated access privileges:

IFQs allow each eligible fisherman to catch a specified portion of the total allowable catch. When the assigned portions can be sold or transferred to other fishermen, they are called individual transferable quotas.

Community quotas grant a specified portion of the allowable catch to a community. The community then decides how to allocate the catch.

Cooperatives split the available quota among the various fishing and processing entities within a fishery via contractual agreements.

Geographically based programs give an individual or group dedicated access to the fish within a specific area of the ocean.

There are also systems that allocate the right to buy fish. Such systems are often referred to as individual processing quotas (IPQs). The Magnuson-Stevens Fishery Conservation and Management Act (Magnuson-Stevens Act) does not allow NMFS to implement IPQs. Congress has also prohibited the Department of Commerce and the Councils, via the Department's 2004 appropriations bill, from establishing or even considering IPQs (except in crab fisheries off Alaska). Therefore, they will not be considered in this EIS.

Not included in the proposed scope for this action are the two other nontribal commercial seafood harvester sectors: the limited entry fixed gear fleet and the open access fleets. The limited entry fixed gear fleet already operates under an IFQ program for sablefish, a species that dominates the groundfish economic activity for most vessels in this fleet. Including consideration of the fixed gear fleet in the development of a trawl IFQ program could increase the complexity of developing the program. The directed open access fleet has yet to be well identified. Identification of this fleet will likely be a major and controversial task in its own right, even without concurrent inclusion of the fleet under an umbrella IFQ program covering all sectors of the West Coast commercial seafood harvesting industry. However, this notice does not preclude further consideration of IFQ for other sectors of the fleet (open access and fixed gear).

At the end of the scoping process and initial Pacific Council deliberations, the Pacific Council may recommend specific alternatives and options for analysis. Depending on the alternatives selected, Congressional action may be required to provide statutory authority to implement a specific alternative preferred by the Council. Lack of statutory authority to implement any particular alternative does not prevent consideration of that alternative or option in the EIS (40 CFR 1502.14(2)).

Preliminary Identification of Environmental Issues

A principal objective of this scoping and public input process is to identify potentially significant impacts to the human environment that should be analyzed in depth in the dedicated access privilege EIS. Pacific Council and NMFS staff conducted an initial screening to identify potentially significant impacts resulting from implementing one of the proposed alternatives to status quo, as well as the continuation of status quo, no action. These impacts relate to the likelihood that there will be a substantial shift in fishing strategies, the configuration of the groundfish fleet, and fishery management and enforcement activities as a result of the implementation of a program meeting the specified goals. Impacts on the following components of the biological and physical environment may be evaluated (1) Essential fish habitat and ecosystems; (2) protected species listed under the Endangered Species Act and Marine Mammal Protection Act and their critical habitat; and (3) the fishery management unit, including target and non-target fish stocks. Socioeconomic impacts are also considered in terms of the effect changes will have on the following groups: (1) Those who participate in harvesting the fishery resources and other living marine resources (for commercial, subsistence or recreational purposes); (2) those who process and market fish and fish products; (3) those who are involved in allied support industries; (4) those who rely on living marine resources in the management area; (5) those who consume fish products; (6) those who benefit from non-consumptive use (e.g. wildlife viewing); (7) those who do not use the resource but derive benefit from it by virtue of its existence, the option to use it, or the bequest of the resource to future generations; (8) those involved in managing and monitoring fisheries; and (9) fishing communities. Analysis of the effects of the alternatives on these groups will be presented in a manner that allows the identification of any disproportionate impacts on low income and minority segments of the identified groups and impacts on small entities.

Related NEPA Analyses

Certain complementary and closely related actions are likely to be required to implement a dedicated access privilege program. As described herein, implementation of an IFQ program or an alternative dedicated access privilege program for the trawl fishery will be a two-step process. The first step is to design the basic program and its major elements (e.g. allocation of shares among participants, monitoring and reporting requirements, needed species to be allocated, etc.). With this notice, the Council and NMFS are seeking comments on this first step. The second step is to determine the amounts of each species that are to be allocated to the trawl and other sectors. Such allocations would be evaluated in a separate but related process supported by a separate but connected NEPA analysis.

Implementation of an IFQ alternative would require an allocation of available harvest between the commercial trawl fisheries and other fishing sectors (inter-sector allocation). This allocation would be needed to annually set the amount of fish that would be partitioned between participants in the trawl IFQ fishery. An inter-sector allocation may be based on an allocation formula or on a determination of the needs of a fishery for each management cycle. The only species now allocated between trawl and other sectors is sablefish. For a trawl IFQ program to succeed, the Council may need to quantify allocations for other species between the trawl sector and other fishing sectors. Allocation questions raise issues beyond developing a dedicated access privilege program. Thus, a second but related NEPA analysis will be undertaken, particularly as intersector allocations may be useful for managing the fishery even if an IFQ program is not adopted. This second NEPA analysis will be about the potential costs and benefits to all fisheries from developing specific commercial and recreational allocations and, within the commercial allocations, developing specific sub-allocations to the open access, trawl, and fixed gear fisheries.

The Council's Allocation Committee will be meeting to discuss the need for intersector allocations and criteria for making such allocation decisions. These meetings will be open to the public and announced in a separate Federal Register document. At approximately the time the Council approves a set of alternatives to be analyzed in the dedicated access privileges EIS, it will likely initiate formal scoping for a NEPA document to cover the intersector allocation issue. In the meantime, comments on the intersector allocation issue should be addressed to the Council office pfmc.comments@noaa.gov (enter “Intersector Groundfish Allocation” in the subject line). Potential outcomes of the allocation decision and impacts of that decision on the IFQ program would be considered in the cumulative effects section of the EIS on dedicated access privileges for the trawl fishery.

Scoping and Public Involvement

Scoping is an early and open process for determining the scope of issues to be addressed and for identifying the notable issues related to proposed alternatives (including status quo). A principal objective of the scoping and public input processes is to identify a reasonable set of alternatives that, with adequate analysis, sharply define critical issues and provide a clear basis for distinguishing among those alternatives and selecting a preferred alternative. The public scoping process provides the public with the opportunity to comment on the range of alternatives and specific options within the alternatives. The scope of the alternatives to be analyzed should be broad enough for the Pacific Council and NMFS to make informed decisions on whether an alterative should be developed and, if so, how it should be designed, and to assess other changes to the FMP and regulations necessary for the implementation of the alternative, including necessary intersector allocations.

Some preliminary public scoping of IFQ alternatives has been conducted through the Council process. Such preliminary scoping is consistent with the Council on Environmental Quality guidelines (46 FR 18026, 51 FR 15618). The results of this preliminary scoping are being used to develop a scoping document that will help focus public comment. Public scoping conducted thus far includes Council meetings held September 2003 (68 FR 51007) and November 2003 (68 FR 59589), and Ad Hoc Trawl Individual Quota Committee meetings held in October 2003 (68 FR 59358) and March 2004 (69 FR 10001). To provide additional preliminary information for the public scoping document, a group of enforcement experts will meet in Long Beach, CA, May 25 and 26, 2004, and a group of analysts will meet in Seattle, WA, June 8 and 9, 2004. Times and locations for these meetings will be announced in the Federal Register and posted on the Council website (www.pcouncil.org). The public scoping document will be completed and released at least 30 days prior to the end of the scoping period. Copies will be available from the Council office (see ADDRESSES) or from the Council website (www.pcouncil.org).

Written comments will be accepted at the Council office through July 31, 2004 (see ADDRESSES).

Public scoping meetings will be announced in the Federal Register at a later date and posted on the Council website. There will be a public scoping session held June 13, 2004, in Foster City CA, in conjunction with the June 2004 Council meeting. The exact time and location for the meeting will be provided in the Federal Register notice announcing the June 2004 Council meeting.

Authority: 16 U.S.C. 1801 et seq.

Dated: May 18, 2004.
Galen R. Tromble,
Acting Director, Office of Sustainable Fisheries, National Marine Fisheries Service.

[FR Doc. 04-11663 Filed 5-21-04; 8:45 am]

BILLING CODE 3510-22-S